INTERNATIONAL TRADE COMMISSION

[Investigation No. 337-TA-694]

In The Matter of Certain Multimedia Display and Navigation Devices and Systems, Components Thereof, and Products Containing Same; Notice of Commission Determination To Extend the Supplemental Briefing Schedule

AGENCY: U.S. International Trade Commission.

ACTION: Notice.

SUMMARY: Notice is hereby given that the U.S. International Trade Commission has determined to extend the supplemental briefing schedule identified in its prior notice issued April 18, 2011 by seven (7) days.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E. Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted the instant investigation on December 16, 2009, based on a complaint filed by Pioneer Corporation of Tokyo, Japan and Pioneer Electronics (USA) Inc. of Long Beach, California (collectively, “Pioneer”). 74 FR 66676 (Dec. 16, 2009). The complaint alleged violations of section 337 of the Tariff Act of 1930, as amended, (19 U.S.C. 1337) in the importation into the United States, the sale for importation, and the sale within the United States after importation of certain multimedia display and navigation devices and systems, components thereof, and products containing same by reason of infringement of various claims of United States Patent Nos. 5,365,448 (“the '448 patent”), 5,424,951 (“the '951 patent”), and 6,122,592 (“the '592 patent”). The complaint named Garmin International, Inc. of Olathe, Kansas, Garmin Corporation of Taiwan (collectively, “Garmin”) and Honeywell International Inc. of Morristown, New Jersey (“Honeywell”) as the proposed respondents. Honeywell was subsequently terminated from the investigation.

On December 16, 2010, the ALJ issued his final initial determination (“ID”). In his final ID, the ALJ found no violation of section 337 by Garmin. Specifically, the ALJ found that the accused products do not infringe claims 1 and 2 of the '448 patent, claims 1 and 2 of the '951 patent, or claims 1 and 2 of the '592 patent. The ALJ found that the '592 patent was not proven to be invalid and that Pioneer has established a domestic industry under 19 U.S.C. 1337(a)(3)(C). On February 23, 2011, the Commission determined to review the final ID in part.

On April 18, 2011, the Commission issued a notice indicating that it had determined to extend the target date and request supplemental briefing from the private parties and the public. On April 22, 2011, the Commission investigative attorney (“IA”) filed an unopposed motion for an extension of the briefing schedule set forth in the Commission's April 18, 2011 notice. The IA's motion is granted.

The Commission has determined to extend all submission dates set forth in its prior notice by seven (7) days. In particular, opening submissions of the parties to the investigation are due no later than May 10, 2011. A public version of these submissions must be filed with the Secretary no later than May 17, 2011. Reply submissions of the parties to the investigation are due no later than May 24, 2011. Written submissions from members of the public will be accepted anytime on or before May 24, 2011. No further submissions on these issues will be permitted unless otherwise ordered by the Commission.

The authority for the Commission's determination is contained in section 337 of the Tariff Act of 1930, as amended (19 U.S.C. 1337), and in part 210 of the Commission's Rules of Practice and Procedure (19 CFR 210).

By order of the Commission.
Issued: April 29, 2011.
William R. Bishop,
Acting Secretary to the Commission.

[FR Doc. 2011-10945 Filed 5-4-11; 8:45 am]

BILLING CODE 7020-02-P